DEPARTMENT OF JUSTICE

Drug Enforcement Administration

Johnnie Melvin Turner, M.D.; Revocation of Registration

On June 18, 2001, the Deputy Assistant Administrator, Office of Diversion Control, Drug Enforcement Administration (DEA), issued an Order to Show Cause to Johnnie Melvin Turner, M.D. (Dr. Turner) of Chicago Illinois, notifying him of an opportunity to show cause as to why DEA should not revoke his DEA Certificate of Registration, BT5794866 under 21 U.S.C. 824(a), and deny any pending applications for renewal or modification of that registration. As a basis for revocation, the Order to Show Cause alleged that Dr. Turner is subject to a ten year exclusion from participation in Medicare. The order also notified Dr. Turner that should no request for a hearing be filed within 30 days, his hearing right would be deemed waived.

The Order to Show Cause was sent by certified mail to Dr. Turner at his work address in Chicago, Illinois. The letter was returned unclaimed. A second Order to Show Cause was sent on October 17, 2001, by certified mail, to another address where Dr. Turner was purportedly working. Again, the letter was again returned unclaimed, and DEA has been unable to determine Dr. Turner's current whereabouts. DEA has not received a request for hearing or any other reply from Dr. Turner or anyone purporting to represent him in this matter. Therefore, the Deputy Administrator, finding that (1) 30 days have passed since the receipt of the Order to Show Cause, and (2) no request for a hearing having been received, concludes that Dr. Turner is deemed to have waived his hearing right. After considering material from the investigative file in this matter, the Deputy Administrator now enters his final order without a hearing pursuant to 21 CFR 1301.43(d) and (e) and 1301.46.

The Deputy Administrator finds that Dr. Turner currently possesses DEA Certificate of Registration BT5794866. That registration expired on November 2000, but the Deputy Administrator hereby extends the registration for purposes of this revocation proceeding. 21 CFR 1301.37(i). The Deputy Administrator further finds that from January 6, 1992 to April 1994, Dr. Turner, along with two other individuals, submitted numerous fraudulent claims in excess of $100,000 to the Illinois Medicare-Part B Program, by billing for services that were not rendered, and as a result, Dr. Turner obtained fees that he was not entitled to.

As a result of Dr. Turner's fraudulent activity, in September 1998, he was indicted in the United States District Court, Northern District of Illinois (Eastern Division) on eleven felony counts related to his improper billing practices. On October 20, 1998, he entered a guilty plea to one felony count of mail fraud. On May 11, 1999, he was sentenced five years probation and ordered to pay restitution of $106,132 to the United States Department of Health and Human Services.

As a result of Dr. Turner's conviction, on August 31, 1999, he was notified by the Department of Health and Human Services of his ten-year mandatory exclusion from participation in the Medicare program pursuant to 42 U.S.C. 1320a-7(a). Effective September 17, 1999, the Illinois Department of Public Aid terminated him from that State's Medical Assistance Program. Exclusion from Medicare is an independent ground for revoking a DEA registration. 21 U.S.C. 824(a)(5).

Accordingly, the Deputy Administrator of the Drug Enforcement Administration, pursuant to the authority vested in him by 21 U.S.C. 823 and 824 and 28 CFR 0.100(b) and 0.104, hereby orders that DEA Certificate of Registration BT5794866, issued to Johnnie Melvin Turner, M.D., be, and it hereby is, revoked. The Deputy Administrator further orders that any pending applications for renewal of such registration be, and they hereby are, denied. This order is effective December 30, 2002.

Dated: November 12, 2002.
John B. Brown, III,
Deputy Administrator.

[FR Doc. 02-30254 Filed 11-27-02; 8:45 am]

BILLING CODE 4410-09-M